DEPARTMENT OF JUSTICE

[AAG/A Order No. 008-2007]

Privacy Act of 1974; Removal of a System of Records Notice

Pursuant to the provisions of the Privacy Act of 1974 (5 U.S.C. 552a), the Department of Justice (DOJ), United States Marshals Service (USMS) is removing the published notice of a Privacy Act system of records: “Justice/USM-003, United States Marshals Service Prisoner Transportation System,” last published in the Federal Register on September 6, 1991, at 56 FR 44101.

The notice of USM-003 is obsolete, as the records for USM-003 were incorporated into “Justice/USM-005, U.S. Marshals Service Prisoner Processing and Population Management/Prisoner Tracking System (PPM/PTS)” when USM-005 was first published as a new Privacy Act system of records on February 3, 1992, at 57 FR 4059. USM-005 has been subsequently updated.

Therefore, the notice of “Justice/USM-003, United States Marshals Service Prisoner Transportation System” is removed from the Department's listing of Privacy Act systems of records notices, effective on the date of publication of this notice in the Federal Register.

Dated: March 8, 2007.
Lee J. Lofthus,
Assistant Attorney General for Administration.

[FR Doc. E7-4960 Filed 3-19-07; 8:45 am]

BILLING CODE 4410-04-P